DEPARTMENT OF LABOR

Employment and Training Administration

[TA-W-72,291]

EDS, an HP Company, A Subsidiary of Hewlett-Packard Company Including On-Site Leased Workers from Compuware Comporation, Detroit, Michigan; Amended Certification Regarding Eligibility To Apply for Worker Adjustment Assistance

In accordance with Section 223 of the Trade Act of 1974, as amended (“Act”), 19 U.S.C. 2273, the Department of Labor issued a Certification of Eligibility to Apply for Worker Adjustment Assistance on December 17, 2009, applicable to workers of EDS, an HP Company, a subsidiary of Hewlett-Packard Company, Detroit, Michigan. The notice was published in the Federal Register on February 16, 2010 (75 FR 7033).

At the request of the State agency, the Department reviewed the certification for workers of the subject firm. The workers are engaged in activities related to information technology (IT) outsourcing services.

New information shows that workers leased from Compuware Corporation were employed on-site at the Detroit, Michigan location of EDS, an HP Company, a subsidiary of Hewlett-Packard Company. The Department has determined that these workers were sufficiently under the control of the subject firm to be considered leased workers.

Based on these findings, the Department is amending this certification to include workers leased from Compuware Corporation working on-site at the Detroit, Michigan location of EDS, an HP Company, a subsidiary of Hewlett-Packard Company.

The amended notice applicable to TA-W-72,291 is hereby issued as follows:

All workers of EDS, an HP Company, a subsidiary of Hewlett-Packard Company, including on-site leased workers from Compuware Corporation, Detroit, Michigan, who became totally or partially separated from employment on or after September 11, 2008, through December 17, 2011, and all workers in the group threatened with total or partial separation from employment on the date of certification through two years from the date of certification, are eligible to apply for adjustment assistance under Chapter 2 of Title II of the Trade Act of 1974, as amended.

Signed at Washington, DC this 9th day of September 2010.
Elliott S. Kushner,
Certifying Officer, Division of Trade Adjustment Assistance.

[FR Doc. 2010-23500 Filed 9-20-10; 8:45 am]

BILLING CODE 4510-FN-P